DEPARTMENT OF TRANSPORTATION

Federal Aviation Administration

Commercial Space Transportation Advisory Committee; Closed Session

AGENCY: Federal Aviation Administration (FAA), DOT.

ACTION: Notice of Commercial Space Transportation Advisory Committee Special Closed Session.

SUMMARY: Pursuant to Section 10(a)(2) of the Federal Advisory Committee Act (Pub. L. 92-463, 5 U.S.C. App. 2), and 5 U.S.C. 552b(c), notice is hereby given of a special closed session of the Commercial Space Transportation Advisory Committee (COMSTAC). The special closed session will be an administrative session for the Committee members to review the provisions of the COMSTAC Charter; the Federal Advisory Committee Act (FACA); 41 CFR, Parts 101-6 and 102-3; and the Department of Transportation and FAA Orders concerning advisory committee management. The meeting will take place on Thursday, October 10, 2013, at the National Housing Center, 1201 15th Street NW., Washington, DC 20005, from 2:00 p.m. until 3:00 p.m.

FOR FURTHER INFORMATION CONTACT: Larry Scott (AST-3), Office of Commercial Space Transportation (AST), 800 Independence Avenue SW., Room 331, Washington, DC 20591, telephone (202) 267-7982, email larry.scott@faa.gov.

Issued in Washington, DC, August 20, 2013.
George C. Nield,
Associate Administrator for Commercial Space Transportation.

[FR Doc. 2013-21145 Filed 8-28-13; 8:45 am]

BILLING CODE 4910-13-P